DEPARTMENT OF TRANSPORTATION

Federal Transit Administration

Limitation on Claims Against Proposed Public Transportation Projects

AGENCY: Federal Transit Administration (FTA), DOT.

ACTION: Notice.

SUMMARY: This notice announces final environmental actions taken by the Federal Transit Administration (FTA) for projects in New York City, New York, and Redmond, Washington. The purpose of this notice is to announce publicly the environmental decisions by FTA on the subject projects and to activate the limitation on any claims that may challenge these final environmental actions.

DATES: By this notice, FTA is advising the public of final agency actions subject to 23 U.S.C. 139(l). A claim seeking judicial review of FTA actions announced herein for the listed public transportation projects will be barred unless the claim is filed on or before February 19, 2019.

FOR FURTHER INFORMATION CONTACT: Nancy-Ellen Zusman, Assistant Chief Counsel, Office of Chief Counsel, (312) 353-2577 or Juliet Bochicchio, Environmental Protection Specialist, Office of Environmental Programs, (202) 366-9348. FTA is located at 1200 New Jersey Avenue SE, Washington, DC 20590. Office hours are from 9:00 a.m. to 5:00 p.m., Monday through Friday, except Federal holidays.

SUPPLEMENTARY INFORMATION: Notice is hereby given that FTA has taken final agency actions by issuing certain approvals for the public transportation projects listed below. The actions on the projects, as well as the laws under which such actions were taken, are described in the documentation issued in connection with the projects to comply with the National Environmental Policy Act (NEPA) and in other documents in the FTA environmental project file for the projects. Interested parties may contact either the project sponsor or the relevant FTA Regional Office for more information. Contact information for FTA's Regional Offices may be found at https://www.fta.dot.gov.

This notice applies to all FTA decisions on the listed projects as of the issuance date of this notice and all laws under which such actions were taken, including, but not limited to, NEPA [42 U.S.C. 4321-4375], Section 4(f) requirements [23 U.S.C. 138, 49 U.S.C. 303], Section 106 of the National Historic Preservation Act [54 U.S.C. 306108], and the Clean Air Act [42 U.S.C. 7401-7671q]. This notice does not, however, alter or extend the limitation period for challenges of project decisions subject to previous notices published in the Federal Register. The projects and actions that are the subject of this notice are:

1. Project name and location: The Metropolitan Transportation Authority (MTA) Long Island Railroad East Side Access Project, New York, NY. Project sponsor: Metropolitan Transportation Authority. Project description: The East Side Access (ESA) Project will connect the Long Island Rail Road's (LIRR) Main and Port Washington Lines in Queens to a new LIRR terminal beneath Grand Central Terminal in Manhattan. The MTA evaluated various project changes in ten prior technical memoranda. In Technical Memorandum No. 11, the MTA proposed to defer completion of the planned 48th Street entrance to a later, undetermined date; enhance a planned ESA entrance at 47th Street to accommodate modified pedestrian flows as a result of the deferred 48th Street entrance; modify the airflow system to account for deferral of an intake/exhaust point in the planned 48th Street entrance; and construct a temporary emergency egress hatch in the sidewalk of 48th Street between Madison and Vanderbilt Avenues. This notice only applies to the discrete actions taken by FTA at this time, as described below. Nothing in this notice affects FTA's previous decisions, or notice thereof, for this project. Final agency actions: FTA determination that the approved environmental document for this project remains valid for the requested administrative action; therefore, neither a supplemental environmental impact statement nor a supplemental environmental assessment is necessary. Supporting documentation: Environmental Re-Evaluation Consultation form prepared for Technical Memorandum No. 11—48th Street Entrance Deferral, dated March 30, 2018.

2. Project name and location: Sound Transit Downtown Redmond Link Extension Project, Redmond, WA. Project Sponsor: Sound Transit. Project description: Sound Transit proposed project changes which include design refinements to Segment E of the original East Link Light Rail Transit Project as described in the Final Environmental Impact Statement (FEIS) dated July, 2011. FTA issued a Record of Decision (ROD) for the East Link Light Rail Transit Project in November, 2011. The project would extend light rail transit service for 3.4 miles from the East Link interim terminus at NE 40th Street, just past the Redmond Technology Center Station, and terminate just east of 164th Avenue NE. This would be approximately 0.3 mile shorter compared to the original East Link Light Rail Transit Project described in the 2011 FEIS and ROD. The project includes two stations: An at-grade SE Redmond Station and an elevated Downtown Redmond Station. The project also includes vertical profile modifications and horizontal alignment shifts as compared to the original East Link Light Rail Transit Project, however the project corridor follows the same general route as originally proposed in the 2011 FEIS and ROD. FTA finds that the changes described are not considered substantial and will not result in significant environmental impacts that were not evaluated in the July 2011 FEIS. This notice only applies to the discrete actions taken by FTA at this time, as described below. Nothing in this notice affects FTA's previous decisions, or notice thereof, for this project. Final agency actions: FTA determination that the approved environmental document for this project remains valid for the requested administrative action; therefore, neither a supplemental environmental impact statement nor a supplemental environmental assessment is necessary. Supporting documentation: Sound Transit Downtown Redmond Link Extension Project, East Link Light Rail Transit Project—Segment E, NEPA Environmental Re-Evaluation dated August 29, 2018.

Elizabeth S. Riklin,
Deputy Associate Administrator for Planning and Environment.

[FR Doc. 2018-20578 Filed 9-20-18; 8:45 am]

BILLING CODE P